Title 3—

The President

Proclamation 10550 of April 7, 2023

National Former Prisoner of War Recognition Day, 2023

By the President of the United States of America

A Proclamation

On National Former Prisoner of War Recognition Day, we honor the more than half a million service members who sacrificed their freedom as prisoners of war in order to defend freedom for their fellow Americans. These brave patriots remind us of the grave costs of war and the sacrifice we ask of those who fight for us. We owe them and their families, caregivers, and survivors a debt of gratitude we can never fully repay.

This year, we mark the 50th anniversary of Operation Homecoming, the repatriation of nearly 600 Americans held captive during the Vietnam War, as well as the 70th anniversary of Operations Big Switch and Little Switch, which brought home more than 3,700 American prisoners of the Korean War. These heroes—and other prisoners of war from every conflict throughout our history—stand among the bravest of our Nation, serving honorably under intolerable circumstances. Their unwavering courage helped defend an idea unlike any other in human history: the idea of the United States of America.

Our Nation has many obligations, but our one truly sacred obligation is to equip those we send into harm's way and to care for them and their families when they return home. To every prisoner of war now safely reunited with their loved ones: We will never fail to honor your sacrifice. To every family still awaiting answers about a hero who went missing in action: We will never stop working to bring them home. And to every service member defending our Nation and our values around the world today: We will never forget what you give to this country each day.

May God bless our former prisoners of war and their families, caregivers, and survivors, and may God protect our troops.

NOW, THEREFORE, I, JOSEPH R. BIDEN JR., President of the United States of America, by virtue of the authority vested in me by the Constitution and the laws of the United States, do hereby proclaim April 9, 2023, as National Former Prisoner of War Recognition Day. I call upon Americans to observe this day by honoring the service and sacrifice of all former prisoners of war as our Nation expresses its eternal gratitude for their sacrifice. I also call upon Federal, State, and local government officials and organizations to observe this day with appropriate ceremonies and activities.

IN WITNESS WHEREOF, I have hereunto set my hand this seventh day of April, in the year of our Lord two thousand twenty-three, and of the Independence of the United States of America the two hundred and forty-seventh.

[FR Doc. 2023-07890

Filed 4-11-23; 11:15 am]

Billing code 3395-F3-P